DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda, date, time, dial-in procedures, and procedures to request to make oral comments for the August 23, 2016 meeting of the NACIQI. The notice of this meeting is required under § 10(a)(2) of the Federal Advisory Committee Act (FACA) and § 114(d)(1)(B) of the Higher Education Act (HEA) of 1965, as amended.

DATES: The NACIQI meeting will be held on August 23, 2016, from 12:00 p.m. to 5:00 p.m. Eastern Time via telephone conference.

Dial-In Procedures

The meeting will be conducted via telephone conference. Participants and members of the public should dial: 888-566-6510 and enter code 9937417 when prompted. Participation in the meeting will be on a first-come first-served basis with the first 300 hundred callers accommodated. The meeting will also be hosted via webinar at: https://educate.webex.com/educate/e.php?MTID=m114df4b98257cd8e99b5aede5c9fd598.

FOR FURTHER INFORMATION CONTACT: Jennifer Hong, Executive Director/Designated Federal Official, NACIQI, U.S. Department of Education, 400 Maryland Avenue SW., Room 6W250, Washington, DC 20202, telephone: (202) 453-7805, or email: Jennifer.Hong@ed.gov.

SUPPLEMENTARY INFORMATION: NACIQI's Statutory Authority and Function: The NACIQI is established under § 114 of the Higher Education Act of 1965, as amended (HEA), 20 U.S.C. 1011c. The NACIQI advises the Secretary of Education about:

• The establishment and enforcement of the criteria for recognition of accrediting agencies or associations under subpart 2 of part H of Title IV of the HEA, as amended.

• The preparation and publication of the list of nationally recognized accrediting agencies and associations.

• The eligibility and certification process for institutions of higher education under Title IV of the HEA, together with recommendations for improvement in such process.

• The relationship between (1) accreditation of institutions of higher education and the certification and eligibility of such institutions, and (2) State licensing responsibilities with respect to such institutions.

• Any other advisory function relating to accreditation and institutional eligibility that the Secretary may prescribe by regulation.

Meeting Agenda: Below is a list of agencies, including their current and requested scopes of recognition, that are scheduled for review by NACIQI during the August 23, 2016 meeting. The meeting will be conducted in accordance with the review procedures outlined in the March 18, 2016 Federal Register notice (Vol. 81, No. 53).

Applications for Renewal of Recognition

1. Accrediting Commission of Career Schools and Colleges

Scope of recognition: The accreditation of private, postsecondary, non-degree-granting institutions and degree-granting institutions in the United States, including those granting associate, baccalaureate and master's degrees, that are predominantly organized to educate students for occupational, trade and technical careers, and including institutions that offer programs via distance education.

2. American Osteopathic Association, Osteopathic College Accreditation

Scope of recognition: The accreditation and preaccreditation (“Provisional Accreditation”) throughout the United States of freestanding institutions of osteopathic medicine and of osteopathic medical programs leading to the degree of Doctor of Osteopathy or Doctor of Osteopathic Medicine.

Title IV Note: Only freestanding schools or colleges of osteopathic medicine may use accreditation by this agency to establish eligibility to participate in Title IV programs.

3. Council on Occupational Education

Scope of recognition: The accreditation and preaccreditation (“Candidacy Status”) throughout the United States of postsecondary occupational education institutions offering non-degree and applied associate degree programs in specific career and technical education fields, including institutions that offer programs via distance education.

4. Transnational Association of Christian Colleges and Schools, Accreditation Commission

Scope of recognition: The accreditation and preaccreditation (“Candidate” Status) of Christian postsecondary institutions in the United States that offer certificates, diplomas, and associate, baccalaureate, and graduate degrees, including institutions that offer distance education.

Compliance Reports

• Northwest Commission on Colleges and Universities

Scope of recognition: The accreditation and preaccreditation (“Candidacy Status”) of postsecondary degree-granting educational institutions in Alaska, Idaho, Montana, Nevada, Oregon, Utah, and Washington, and the accreditation of programs offered via distance education within these institutions. (Compliance report on 34 CFR 602.24(a) and 602.24(b) for findings affirmed on appeal by the Secretary. Please see http://oha.ed.gov/secretarycases/2014-7-O-S.pdf for the Secretary's appeal decision.)

Submission of requests to make an oral comment regarding a specific accrediting agency under review: Pre-registered third-party oral commenters will have the opportunity to make a three-minute oral comment concerning one of the agencies scheduled for review at the August 23, 2016 meeting. These oral commenters are listed on the June 22-24, 2016 agenda, which is available at: http://www2.ed.gov/about/bdscomm/list/naciqi-dir/2016-spring/naciqi-agenda-june-2016.pdf

Oral comments about agencies undergoing review must relate to the Criteria for Recognition of Accrediting Agencies, which is available at: http://www.ed.gov/admins/finaid/accred/index.html. Oral commenters may also register on August 23, 2016 to make an oral comment during NACIQI's deliberations concerning a particular agency or institution scheduled for review, by calling (202) 453-7615 from 7:30 a.m.-8:30 a.m. Eastern Time. The requestor must provide his or her name, title, organization/affiliation, mailing address, email address, and telephone number. A total of up to fifteen minutes during each agency review will be allotted for oral commenters who register on August 23, 2016 by 8:30 a.m. Eastern Time. Individuals will be selected on a first-call, first-served basis. If selected, each commenter may not exceed three minutes. The oral comments made will become part of the official record and will be considered by the Department and NACIQI in their deliberations. No individual in attendance or making oral presentations may distribute written materials at the meeting.

Access to Records of the Meeting: The Department will post the official report of the meeting on the NACIQI Web site 90 calendar days after the meeting. Pursuant to the FACA, the public may also inspect the materials at 400 Maryland Avenue SW., Washington, DC, by emailing aslrecordsmanager@ed.gov or by calling (202) 453-7110 to schedule an appointment.

Reasonable Accommodations: If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available for free at the Adobe Web site. You may also access documents of the Department published in the Federal Register by using the article search feature at: www.federalregister.gov. Specifically, through the advanced search feature at this site, you can limit your search to documents published by the Department.

Delegation of Authority: The Secretary of Education has delegated authority to Lynn B. Mahaffie, Deputy Assistant Secretary for Planning, Policy, and Innovation, to perform the duties of Assistant Secretary for Postsecondary Education.

Authority: 20 U.S.C. 1011c.

Lynn B. Mahaffie,
Deputy Assistant Secretary for Planning, Policy, and Innovation, delegated the duties of Assistant Secretary for Postsecondary Education.

[FR Doc. 2016-17233 Filed 7-20-16; 8:45 am]

BILLING CODE P